DEPARTMENT OF LABOR

Mine Safety and Health Administration

30 CFR Part 75

RIN 1219-AB75

Examinations of Work Areas in Underground Coal Mines for Violations of Mandatory Health or Safety Standards

AGENCY: Mine Safety and Health Administration, Labor.

ACTION: Proposed rule; extension of comment period.

SUMMARY: The Mine Safety and Health Administration (MSHA) is extending the comment period on the proposed rule addressing Examinations of Work Areas in Underground Coal Mines for Violations of Mandatory Health or Safety Standards. It proposed revising MSHA requirements for preshift, supplemental, and on-shift, and weekly examinations of underground coal mines. This extension gives commenters an additional 30 days to comment on the proposed rule.

DATES: The comment period for the proposed rule published December 27, 2010, at 75 FR 81165, is extended. All comments must be received or postmarked by 12 midnight Eastern Daylight Savings Time, March 28, 2011.

ADDRESSES: All submissions must be clearly identified and reference MSHA and RIN 1219-AB75. Comments may be submitted by any of the following methods:

• Federal e-Rulemaking Portal: http://www.regulations.gov. Follow the instructions for submitting comments.

• Electronic mail: zzMSHA-comments@dol.gov. Include “RIN 1219-AB75” in the subject line of the message.

• Facsimile: (202) 693-9441. Include “RIN 1219-AB75” in the subject line of the message.

• Regular Mail: MSHA, Office of Standards, Regulations, and Variances, 1100 Wilson Blvd., Room 2350, Arlington, Virginia 22209-3939.

• Hand Delivery or Courier: MSHA, Office of Standards, Regulations, and Variances, 1100 Wilson Blvd., Room 2350, Arlington, Virginia 22209-3939. Sign in at the receptionist's desk on the 21st floor.

MSHA will post all comments on the Internet without change, including any personal information provided. Comments can be accessed electronically at http://www.msha.gov under the “Rules & Regs” link. Comments may also be reviewed in person at the Office of Standards, Regulations, and Variances, 1100 Wilson Boulevard, Room 2350, Arlington, Virginia. Sign in at the receptionist's desk on the 21st floor.

MSHA maintains a list that enables subscribers to receive e-mail notification when the Agency publishes rulemaking documents in the Federal Register. To subscribe, go to http://www.msha.gov/subscriptions/subscribe.aspx.

• Information Collection Requirements: Comments concerning the information collection requirements of this proposed rule must be clearly identified with “RIN 1219-AB75” and sent to both the Office of Management and Budget (OMB) and MSHA. Comments to OMB may be sent by mail addressed to the Office of Information and Regulatory Affairs, Office of Management and Budget, New Executive Office Building, 725 17th Street, NW., Washington, DC 20503, Attn: Desk Officer for MSHA. Comments to MSHA may be transmitted by any of the methods listed above in this section.

SUPPLEMENTARY INFORMATION: On December 27, 2010 (75 FR 81165), MSHA published a proposed rule, Examinations of Work Areas in Underground Coal Mines for Violations of Mandatory Health or Safety Standards. The proposal would require operators to examine for violations of mandatory health or safety standards in addition to hazardous conditions, and take corrective actions if violations are found. It would also require that operators review with mine examiners on a quarterly basis all citations and orders issued in areas where examinations are required. The proposal would require that underground coal mine operators find and fix violations of mandatory health or safety standards, thereby improving health and safety for miners. The proposed rule is available on MSHA's Web site at http://www.msha.gov/REGS/FEDREG/PROPOSED/2010PROP/2010-32410.pdf.

In response to a request from the public and to provide the opportunity for additional public participation in this rulemaking, MSHA is extending the comment period from February 25, 2011, to March 28, 2011. All comments and supporting documentation must be received or postmarked by 12 midnight Eastern Daylight Savings Time, March 28, 2011.

Dated: February 24, 2011.
Joseph A. Main,
Assistant Secretary of Labor for Mine Safety and Health.

[FR Doc. 2011-4592 Filed 2-25-11; 4:15 pm]

BILLING CODE 4510-43-P